DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101(c) of the Federal Mine Safety and Health Act of 1977, the Secretary of Labor (Secretary) may allow the modification of the application of a mandatory safety standard to a mine if the Secretary determines either that an alternative method exists at a specific mine that will guarantee no less protection for the miners affected than that provided by the standard, or that the application of the standard at a specific mine will result in a diminution of safety to the affected miners.

Final decisions on these petitions are based on the petitioner's statements, comments and information submitted by interested persons, and a field investigation of the conditions at the mine. MSHA, as designee of the Secretary, has granted or partially granted the requests for modification listed below. In some instances, the decisions are conditioned upon compliance with stipulations stated in the decision. The term FR Notice appears in the list of affirmative decisions below. The term refers to the Federal Register volume and page where MSHA published a notice of the filing of the petition for modification.

FOR FURTHER INFORMATION CONTACT: Petitions and copies of the final decisions are available for examination by the public in the Office of Standards, Regulations, and Variances, MSHA, 1100 Wilson Boulevard, Room 2350, Arlington, Virginia 22209. For further information contact Barbara Barron at (202) 693-9447.

Dated at Arlington, Virginia this 29th day of April 2005.
Rebecca J. Smith,
Acting Director, Office of Standards, Regulations, and Variances.

Affirmative Decisions on Petitions for Modification

Docket No.: M-2004-028-C.

FR Notice: 69 FR 43628.

Petitioner: Snyder Coal Company.

Regulation Affected: 30 CFR 75.1100-2(a)(2).

Summary of Findings: Petitioner's proposal is to use portable fire extinguishers to replace existing requirements where rock dust, water cars, and other water storage equipped with three (3) ten quart pails are not practical. The petitioner will use two (2) portable fire extinguishers near the slope bottom and an additional portable fire extinguisher within 500 feet of the working face for equivalent fire protection for the No. 1 Rock Slope Mine. This is considered an acceptable alternative method for the No. 1 Rock Slope Mine. MSHA grants the petition for modification for the No. 1 Rock Slope Mine with conditions.

Docket No.: M-2004-029-C.

FR Notice: 69 FR 43628.

Petitioner: Snyder Coal Company.

Regulation Affected: 30 CFR 75.1200(d),(h), and (i).

Summary of Findings: Petitioner's proposal is to use cross-sections instead of contour lines through the intake slope, at locations of rock tunnel connections between veins, and at 1,000 foot intervals of advance from the intake slope; and to limit the required mapping of the mine workings above and below to those present within 100 feet of the vein being mined except when veins are interconnected to other veins beyond the 100-foot limit through rock tunnels. This is considered an acceptable alternative method for the No. 1 Rock Slope Mine. MSHA grants the petition for modification for the No. 1 Rock Slope Mine with conditions.

Docket No.: M-2004-030-C.

FR Notice: 69 FR 43628.

Petitioner: Snyder Coal Company.

Regulation Affected: 30 CFR 75.1202-1(a).

Summary of Findings: Petitioner's proposal is to revise and supplement mine maps annually instead of every 6 months as required. Petitioner will continue to update maps daily by hand notations; and to conduct surveys prior to commencing retreat mining and whenever either a drilling program under 30 CFR 75.388 or plan for mining into inaccessible areas under 30 CFR 75.389 is required. This is considered an acceptable alternative method for the No. 1 Rock Slope Mine. MSHA grants the petition for modification for the No. 1 Rock Slope Mine with conditions.

Docket No.: M-2004-042-C.

FR Notice: 69 FR 61527.

Petitioner: Clintwood Elkhorn Mining Company.

Regulation Affected: 30 CFR 77.214(a).

Summary of Findings: Petitioner's proposal is to backfill a total of eight mine entries in the Blair #1 and Blair #2 mines with coarse coal refuse and scalp rock material generated from an adjacent underground mine. This is considered an acceptable alternative method for the Blair #1 Mine and Blair #2 Mine. MSHA grants the petition for modification for the Blair #1 Mine and Blair #2 Mine with conditions.

Docket No.: M-2004-047-C.

FR Notice: 69 FR 69414.

Petitioner: Arclar Company, LLC.

Regulation Affected: 30 CFR 75.1909(b)(6).

Summary of Findings: Petitioner's proposal is to operate its six-wheeled Getman RDG-1504S Diesel Road Grader, Serial No. 6760, powered by a Cat 3306PCNA 150 horsepower diesel engine used at the Willow Lake Portal Mine without front wheel brakes. The petitioner proposes to limit the speed of the diesel grader to 10 miles per hour and to train the grader operators in the proper techniques for lowering the blade to provide additional stopping capability in emergency situations. This is considered an acceptable alternative method for the Willow Lake Portal Mine. MSHA grants the petition for modification for the Willow Lake Portal Mine with conditions.

[FR Doc. 05-9058 Filed 5-5-05; 8:45 am]

BILLING CODE 4510-43-P